DEPARTMENT OF COMMERCE

National Oceanic and Atmospheric Administration

[RTID 0648-XE024]

Management Track Assessment Peer Review for Four Stocks of Atlantic Cod, Atlantic Surfclam, Black Sea Bass, Butterfish, and Golden Tilefish

AGENCY: National Marine Fisheries Service (NMFS), National Oceanic and Atmospheric Administration (NOAA), Commerce.

ACTION: Notice of public meeting.

SUMMARY: NMFS and the Assessment Oversight Panel will convene the Management Track Assessment Peer Review Meeting for the purpose of reviewing four stocks of Atlantic cod (western Gulf of Maine; eastern Gulf of Maine; Georges Bank; southern New England), as well as Atlantic surfclam, black sea bass, butterfish, and golden tilefish. The Management Track Assessment Peer Review is a formal scientific peer-review process for evaluating and presenting stock assessment results to managers for fish stocks in the offshore U.S. waters of the northwest Atlantic. Assessments are prepared by the management track working groups and reviewed by an independent panel of stock assessment experts. The public is invited to attend the presentations and discussions between the review panel and the scientists who have participated in the stock assessment process.

DATES: The public portion of the Management Track Assessment Peer Review Meeting will be held June 18-25, 2024. The meeting will conclude on June 25, 2024, at 5:30 p.m. Eastern Standard Time. Please see SUPPLEMENTARY INFORMATION for the daily meeting agenda.

ADDRESSES: The meeting will be held via Google Meet:

• Video call link: https://meet.google.com/cvj-xzxh-vuj.

• Dial-in number (US): +1 505-596-1588; PIN: 594 430 759#.

FOR FURTHER INFORMATION CONTACT: Michele Traver, 508-495-2195, michele.traver@noaa.gov.

SUPPLEMENTARY INFORMATION: For an outline of the stock assessment process please visit the Northeast Fisheries Science Center (NEFSC) website at https://www.fisheries.noaa.gov/new-england-mid-atlantic/population-assessments/fishery-stock-assessments-new-england-and-mid-atlantic. For specific information about the management track assessment peer review, please visit the NEFSC web page at https://www.fisheries.noaa.gov/new-england-mid-atlantic/population-assessments/management-track-stock-assessments.

The agenda is subject to change; all times are approximate and may be changed at the discretion of the Peer Review Chair.

Daily Meeting Agenda—Management Track Peer Review Meeting

Tuesday, June 18, 2024
Time | Subject | Presenter
9:30 a.m.-9:45 a.m | Welcome/Logistics/Conduct of Meeting | Michele Traver, Kristan Blackhart, John Wiedenmann, Chair.
9:45 a.m.-11:15 a.m | WGOM Cod | Charles Perretti.
11:15 a.m.-11:30 a.m | Break
11:30 a.m.-12:30 p.m | WGOM Cod cont. Discussion/Questions | Charles Perretti Panel.
12:30 p.m.-12:45 p.m | Public Comment | Public.
12:45 p.m.-1:45 p.m | Lunch
1:45 p.m.-3:30 p.m | EGOM Cod | Cameron Hodgdon.
3:30 p.m.-3:45 p.m | Break
3:45 p.m.-4:15 p.m | EGOM Cod cont. Discussion/Questions | Cameron Hodgdon Panel.
4:15 p.m.-4:30 p.m | Daily Wrap Up Summary/Discussion | Panel.
4:30 p.m.-4:45 p.m | Public Comment | Public.
4:45 p.m | Adjourn

Thursday, June 20, 2024
Time | Subject | Presenter
9:30 a.m.-9:35 a.m | Welcome/Logistics | Michele Traver, John Wiedenmann, Chair.
9:35 a.m.-11 a.m | SNE Cod | Alex Hansell.
11 a.m.-11:15 a.m | Break
11:15 a.m.-12:15 p.m | SNE Cod cont. Discussion/Questions | Alex Hansell Panel.
12:15 p.m.-12:30 p.m | Public Comment | Public.
12:30 p.m.-1:30 p.m | Lunch
1:30 p.m.-3:30 p.m | GB Cod | Amanda Hart.
3:30 p.m.-3:45 p.m | Break
3:45 p.m.-4:45 p.m | GB Cod cont. Discussion/Questions | Amanda Hart Panel.
4:45 p.m.-5 p.m | Daily Wrap Up Summary/Discussion | Panel.
5 p.m.-5:15 p.m | Public Comment | Public.
5:15 p.m | Adjourn

Friday, June 21, 2024
Time | Subject | Presenter
9:30 a.m.-9:35 a.m | Welcome/Logistics | Michele Traver, John Wiedenmann, Chair.
9:35 a.m.-11 a.m | Meeting Wrap Up/Key Points | Panel.
11 a.m.-4 p.m | Report Writing | Panel.
4 p.m | Adjourn

Monday, June 24, 2024
Time | Subject | Presenter
1 p.m.-1:15 p.m | Welcome/Logistics/Conduct of Meeting | Michele Traver, Kristan Blackhart, Paul Rago, Chair.
1:15 p.m.-3:15 p.m | Black Sea Bass | Emily Liljestrand.
3:15 p.m.-3:30 p.m | Break
3:30 p.m.-3:45 p.m | Daily Wrap Up Summary/Discussion | Panel.
3:45 p.m.-4 p.m | Public Comment | Public.
4 p.m | Adjourn

Tuesday, June 25, 2024
Time | Subject | Presenter
8:30 a.m.-8:35 a.m | Welcome/Logistics/Conduct of Meeting | Michele Traver, Paul Rago, Chair.
8:35 a.m.-10:30 a.m | Golden Tilefish | Paul Nitschke.
10:30 a.m.-10:45 a.m | Break
10:45 a.m.-11:45 a.m | Golden Tilefish cont. Discussion/Questions | Paul Nitschke Panel.
11:45 a.m.-12 p.m | Public Comment | Public.
12 p.m.-1 p.m | Lunch
1 p.m.-3 p.m | Butterfish Discussion/Questions | Charles Adams Panel.
3 p.m.-3:15 p.m | Break
3:15 p.m.-4:45 p.m | Atlantic Surf Clam Discussion/Questions | Dan Hennen Panel.
4:45 p.m.-5:15 p.m | Daily Wrap Up Summary/Discussion | Panel.
5:15 p.m.-5:30 p.m | Public Comment | Public.
5:30 p.m | Adjourn

The meeting is open to the public; however, during the “Report Writing” session on Friday, June 21, 2024, from 11 a.m. to 4 p.m., the public should not engage in discussion with the Peer Review Panel.

Special Accommodations

This meeting is physically accessible to people with disabilities. Special requests should be directed to Michele Traver, via email.

Authority: 16 U.S.C. 1801 et seq.

Dated: June 4, 2024.
Karen H. Abrams,
Acting Director, Office of Sustainable Fisheries, National Marine Fisheries Service.

[FR Doc. 2024-12568 Filed 6-6-24; 8:45 am]

BILLING CODE 3510-22-P